DEPARTMENT OF COMMERCE

National Oceanic and Atmospheric Administration

RIN: 0648-XP06

North Pacific Fishery Management Council; Public Meeting

AGENCY: National Marine Fisheries Service (NMFS), National Oceanic and Atmospheric Administration (NOAA), Commerce.

ACTION: Notice of a public committee meeting.

SUMMARY: The North Pacific Fishery Management Council (Council) announces a workshop on Annual Catch Limits, to be held May 21, 22, 2009 in Seattle, WA.

DATES: The workshop will be held on May 21-22, 2009.

ADDRESSES: The meeting will be held at the Alaska Fishery Science Center, 7600 Sand Point Way, Building 4, Traynor Room, Seattle, WA.

Council address: North Pacific Fishery Management Council, 605 W. 4th Ave., Suite 306, Anchorage, AK 99501-2252.

FOR FURTHER INFORMATION CONTACT: Diana Stram, North Pacific Fishery Management Council; telephone: (907) 271-2809

SUPPLEMENTARY INFORMATION: The agenda will include the following: Developing methodologies for addressing new National Standard 1 guidelines for Groundfish, Crab and Scallop FMPs including discussion of incorporating uncertainty into catch specifications; Developing annual biological catch limits for crabs and scallops; addressing data quality requirements; and new ecosystem component criteria.

Although non-emergency issues not contained in this agenda may come before this group for discussion, in accordance with the Magnuson-Stevens Fishery Conservation and Management Act (Magnuson-Stevens Act), those issues may not be the subject of formal action during this meeting. Actions will be restricted to those issues specifically identified in this notice and any issues arising after publication of this notice that require emergency action under Section 305(c) of the Magnuson-Stevens Act, provided the public has been notified of the Council's intent to take final action to address the emergency.

Special Accommodations

These meetings are physically accessible to people with disabilities. Requests for sign language interpretation or other auxiliary aids should be directed to Gail Bendixen, (907) 271-2809, at least 5 working days prior to the meeting date.

Dated: May 1, 2009.
Tracey L. Thompson,
Acting Director, Office of Sustainable Fisheries, National Marine Fisheries Service.

[FR Doc. E9-10463 Filed 5-5-09; 8:45 am]

BILLING CODE 3510-22-S